DEPARTMENT OF HEALTH AND HUMAN SERVICES

Centers for Disease Control and Prevention

[30-Day-11-10CB]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

A Survey to Evaluate Occupational Safety and Health Educational Materials for Home Care Workers—New—National Institute for Occupational Safety and Health (NIOSH), Centers for Disease Control and Prevention (CDC).

Background and Brief Description

The mission of the National Institute for Occupational Safety and Health (NIOSH) is to promote safety and health at work for all people through research and prevention. Under Public Law 91-596, Sections 20 and 22 (section 20-22, Occupational Safety and Health Act of 1970); NIOSH has the responsibility to conduct research to advance the health and safety of workers. In this capacity, NIOSH will conduct a survey of home care workers to evaluate newly developed educational intervention materials.

Home care workers who provide housekeeping and routine personal care services to elderly, disabled or ill individuals in their homes, constitute one of the fastest growing occupational groups, estimated at about 1,500,000 workers. In 1997, the U.S. Bureau of Labor Statistics issued a special report on work-related injuries to home care workers showing an injury rate which was 50% higher than that of workers employed in the private hospital sector and 70% higher than the overall rate for all private industry workers.

NIOSH has developed educational intervention materials for home care workers to prevent exposure to work-related hazards. The intervention materials consist of a printed handbook and a training session that explains how to use the handbook. The primary goal of the handbook and training session is to help home care workers and their clients identify hazards, discuss these hazards and identify accessible and low cost tips and tools for minimizing exposures to hazards. These materials have been developed and piloted in Alameda County, California. The goal of this data collection is to evaluate these materials before disseminating them more broadly.

The study population for this survey includes current home care workers and their clients who are enrolled in the In-Home Supportive Services (IHSS) Program in Alameda County, California.

NIOSH has obtained input on the content and operational aspects of the survey through local stakeholder meetings. The survey instrument has been reviewed by subject matter experts and cognitive interviews have been conducted using the survey instrument. Input received was used to guide development of the survey instrument and plans for survey implementation.

Rather than inviting all 15,000 home care workers to participate through a mailing, as was stated in the 60 day notice, instead we will recruit participants through a mailing to a stratified random sample of 5000 current home care workers extracted from the regularly updated Alameda County IHSS program employee database. The sample will be stratified to reflect approximately equal numbers of English, Spanish and Chinese speaking home care workers using the preferred language variable included in the employee database. The mailing will include a letter explaining the study and an interest response form. Interested workers who would like to volunteer to participate in the study will complete the interest response form and return it in a self addressed envelope to the study contractor. The first 107 home care worker volunteers from each of the three language groups (320 total home care workers) who return their interest response forms will be randomized in equal groups into either an intervention or a control group and will be called and enrolled in the study by the survey contractor. The change from sending recruitment letters to all 15,000 workers to a more targeted recruitment pool of 5,000 English, Spanish, and Chinese speakers was made following additional input from our community partners. They considered the 5,000 to be sufficient to recruit the necessary 320 volunteers.

The primary client for each home care worker participant will also be called by the contractor and invited to participate in the study but the clients' willingness to participate will not affect whether a home care workers can remain as a study participant. Both the home care worker and their primary client will complete a pre- and a post-intervention telephone survey with a two-month interval between the two surveys. Data from the telephone surveys will be captured directly into an electronic database. Home care workers in the intervention group will receive the intervention materials and training during the interval between the pre and the post surveys. Home care workers in the control group will receive the intervention materials and training after the completion of the post survey. Each telephone survey will last approximately 30 minutes for home care workers and 15 minutes for clients. Because of the demographics of the population intervention materials as well as the evaluation surveys are in three languages: English, Spanish and Chinese.

Information will be collected on demographic variables including age, sex, race, education, income, primary language, and marital status. Information will be collected on the number of years a worker has been employed as a home care worker and the number of years a client has received home care services. Information will also be collected on working conditions and occupational exposures, work related injuries, knowledge of work-related health risks and workers' perception of the ease of controlling hazards. Finally, information will be collected from workers on their job satisfaction and clients on their satisfaction with caregiver services, on the quality of the caregiver and client relationships, and specific questions regarding use of the intervention materials.

The purpose of this information collection is to evaluate whether or not the educational materials (the Home Care Worker Handbook and training session) are effective in (1) conveying the intended message and (2) encouraging home care workers and their clients to make changes to reduce hazards. Without benefit of the evaluation, CDC will be unable to determine the effectiveness of the materials or formulate recommendations on their appropriate use and broader dissemination.

Once the study is completed, results will be made available via various means including the NIOSH internet site. NIOSH expects to complete data collection no later than spring of 2011. There is no cost to respondents other than their time.

The total estimated annual burden hours are 842.

Estimated Annualized Burden Hours
Type of respondent | Form name | Number of respondents | Number of responses per respondent | Average burden per response (in hours)
Home care workers | Home care worker interest response form | 500 | 1 | 5/60
| Home care worker pre survey | 320 | 1 | 30/60
| Home care worker training program | 320 | 1 | 1
| Home care worker post survey | 320 | 1 | 30/60
Home care clients | Client pre survey | 320 | 1 | 15/60
| Client post survey (post) | 320 | 1 | 15/60

Dated: October 27, 2010.
Carol Walker,
Acting Reports Clearance Officer, Centers for Disease Control and Prevention.

[FR Doc. 2010-27605 Filed 11-1-10; 8:45 am]

BILLING CODE 4163-18-P